DEPARTMENT OF TRANSPORTATION

Federal Aviation Administration

14 CFR Part 39

[Docket No. FAA-2016-5589; Directorate Identifier 2014-NM-252-AD]

RIN 2120-AA64

Airworthiness Directives; Airbus Airplanes

AGENCY: Federal Aviation Administration (FAA), DOT.

ACTION: Notice of proposed rulemaking (NPRM).

SUMMARY: We propose to supersede Airworthiness Directive (AD) 2012-20-07, for certain Airbus Model A318, A319, A320, and A321 series airplanes. AD 2012-20-07 currently requires revising the airworthiness limitations section (ALS) of the instructions for continued airworthiness (ICA) to incorporate new limitations for fuel tank systems, and revising the maintenance program to incorporate revised fuel maintenance and inspection tasks. Since we issued AD 2012-20-07, Airbus has issued more restrictive maintenance requirements and/or airworthiness limitations. This proposed AD would require revising the maintenance or inspection program to incorporate revised fuel airworthiness limitations. We are proposing this AD to prevent the potential of ignition sources inside fuel tanks, which, in combination with flammable fuel vapors, could result in a fuel tank explosion and consequent loss of the airplane.

DATES: We must receive comments on this proposed AD by May 31, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5589; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-5589; Directorate Identifier 2014-NM-252-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 2, 2012, we issued AD 2012-20-07, Amendment 39-17213 (77 FR 63716, October 17, 2012) (“AD 2012-20-07”). AD 2012-20-07 requires actions intended to address an unsafe condition on all Model A319, A320, and A321 series airplanes.

Since we issued AD 2012-20-07, Airbus has issued A318/A319/A320/A321 Airworthiness Limitations Section (ALS) Part 5, Fuel Airworthiness Limitations, Revision 01, dated July 9, 2014, which contains more restrictive maintenance requirements and/or airworthiness limitations. The European Aviation Safety Agency (EASA), which is the Technical Agent for the Member States of the European Union, has issued EASA Airworthiness Directive 2014-0260, dated December 5, 2014 (referred to after this as the Mandatory Continuing Airworthiness Information, or “the MCAI”), to correct an unsafe condition. The MCAI states:

Prompted by an accident . . ., the Federal Aviation Administration (FAA) published Special Federal Aviation Regulation (SFAR) 88 [http://rgl.faa.gov/Regulatory_and_Guidance_Library/rgFAR.nsf/0/EEFB3F94451DC06286256C93004F5E07?OpenDocument&Highlight=sfar 88], and the Joint Aviation Authorities (JAA) published interim Policy INT/POL/25/12. In response to these regulations, Airbus conducted a design review to develop Fuel Airworthiness Limitations (FAL) for Airbus A320 family aeroplanes.

The FAL were specified in Airbus A318/A319/A320/A321 FAL document ref. 95A.1931/05 at issue 04 for A318/A319/A320/A321 aeroplanes. This document was approved by the European Aviation Safety Agency (EASA) and is now referenced in Airbus A318/A319/A320/A321 ALS Part 5 to comply with EASA policy statement (EASA D2005/CPRO).

Failure to comply with items as identified in Airbus A318/A319/A320/A321 ALS Part 5 could result in a fuel tank explosion and consequent loss of the aeroplane.

For the reasons described above, this [EASA] AD retains the requirements of EASA AD 2011-0155R1 (http://ad.easa.europa.eu/blob/easa_ad_2011_0155_R1_superseded.pdf/AD_2011-0155R1_1), which is superseded [and which corresponds to FAA AD 2012-20-07, Amendment 39-17213 (77 FR 63716, October 17, 2012)], and requires implementation of the new or more restrictive maintenance requirements and/or airworthiness limitations as specified in Airbus A318/A319/A320/A321 ALS Part 5 at Rev.01.

* * * * *

The required action is revising the maintenance or inspection program to incorporate revised fuel airworthiness limitations.

You may examine the MCAI in the AD docket on the Internet at http://www.regulations.gov by searching for and locating Docket No. FAA-2016-5589.

Related Service Information Under 1 CFR Part 51

Airbus has issued A318/A319/A320/A321 ALS Part 5, Fuel Airworthiness Limitations, Revision 01, dated July 9, 2014. The service information describes fuel system airworthiness limitations. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (n)(1) of this proposed AD. The request should include a description of changes to the required inspections that will ensure the continued operational safety of the airplane.

Notwithstanding any other maintenance or operational requirements, components that have been identified as airworthy or installed on the affected airplanes before accomplishing the revision of the airplane maintenance or inspection program or before accomplishing the revision of the Airworthiness Limitation Section (ALS) of the Instructions for Continued Airworthiness specified in this proposed AD, do not need to be reworked in accordance with the CDCCLs. However, once the airplane maintenance or inspection program or ALS has been revised as required by this proposed AD, future maintenance actions on these components must be done in accordance with the CDCCLs.

Differences Between This Proposed AD and the MCAI or Service Information

The MCAI specifies that if there are findings from the ALS inspection tasks, corrective actions must be accomplished in accordance with Airbus maintenance documentation. However, this proposed AD does not include that requirement. Operators of U.S.-registered airplanes are required by general airworthiness and operational regulations to perform maintenance using methods that are acceptable to the FAA. We consider those methods to be adequate to address any corrective actions necessitated by the findings of ALS inspections required by this proposed AD.

Explanation of Proposed Compliance Time

In most ADs, we adopt a compliance time allowing a specified amount of time after the AD's effective date or as specified by the MCAI, whichever is later. In this case, however, the MCAI compliance time has already expired. We have determined that an appropriate initial compliance time is 60 days for revising the maintenance or inspection program to incorporate the fuel airworthiness limitations (e.g., life limits, tasks, and CDCCLs, and associated thresholds and intervals) described in Airbus A318/A319/A320/A321 ALS Part 5, Fuel Airworthiness Limitations, Revision 01, dated July 9, 2014. We find 60 days an appropriate compliance time to revise the maintenance or inspection program. The initial compliance times for the tasks are at the times specified in Airbus A318/A319/A320/A321 ALS Part 5, Fuel Airworthiness Limitations, Revision 01, dated July 9, 2014, or within 60 days, whichever is later. In developing the compliance time for this action, we considered the degree of urgency associated with addressing the unsafe condition. This difference has been coordinated with the EASA.

Airworthiness Limitations Based on Type Design

The FAA recently became aware of an issue related to the applicability of ADs that require incorporation of an ALS revision into an operator's maintenance or inspection program.

Typically, when these types of ADs are issued by civil aviation authorities of other countries, they apply to all airplanes covered under an identified type certificate (TC). The corresponding FAA AD typically retains applicability to all of those airplanes.

In addition, U.S. operators must operate their airplanes in an airworthy condition, in accordance with 14 CFR 91.7(a). Included in this obligation is the requirement to perform any maintenance or inspections specified in the ALS, and in accordance with the ALS as specified in 14 CFR 43.16 and 91.403(c), unless an alternative has been approved by the FAA.

When a type certificate is issued for a type design, the specific ALS, including revisions, is a part of that type design, as specified in 14 CFR 21.31(c).

The sum effect of these operational and maintenance requirements is an obligation to comply with the ALS defined in the type design referenced in the manufacturer's conformity statement. This obligation may introduce a conflict with an AD that requires a specific ALS revision if new airplanes are delivered with a later revision as part of their type design.

To address this conflict, the FAA has approved alternative methods of compliance (AMOCs) that allow operators to incorporate the most recent ALS revision into their maintenance/inspection programs, in lieu of the ALS revision required by the AD. This eliminates the conflict and enables the operator to comply with both the AD and the type design.

However, compliance with AMOCs is normally optional, and we recently became aware that some operators choose to retain the AD-mandated ALS revision in their fleet-wide maintenance/inspection programs, including those for new airplanes delivered with later ALS revisions, to help standardize the maintenance of the fleet. To ensure that operators comply with the applicable ALS revision for newly delivered airplanes containing a later revision than that specified in an AD, we plan to limit the applicability of ADs that mandate ALS revisions to those airplanes that are subject to an earlier revision of the ALS, either as part of the type design or as mandated by an earlier AD.

This proposed AD therefore applies to the airplanes identified in paragraph (c) of this proposed AD with an original certificate of airworthiness or original export certificate of airworthiness that was issued on or before the date of approval of the ALS revision identified in this proposed AD. Operators of airplanes with an original certificate of airworthiness or original export certificate of airworthiness issued after that date must comply with the airworthiness limitations specified as part of the approved type design and referenced on the type certificate data sheet.

Record of Ex Parte Communication

In preparation of AD actions, it is the practice of the FAA to obtain technical information and information on the operational and economic impact from design approval holders and aircraft operators. We discussed certain issues related to this NPRM in a recent meeting with Airlines for America (A4A). Shortly after this NPRM is published, we will post a summary of this meeting in the rulemaking docket. For information on locating the docket, see “Examining the AD Docket.”

Costs of Compliance

We estimate that this proposed AD affects 953 airplanes of U.S. registry.

The actions required by AD 2012-20-07, and retained in this proposed AD take about 4 work-hours per product, at an average labor rate of $85 per work-hour. Based on these figures, the estimated cost of the actions that are required by AD 2012-20-07 is $340 per product.

We also estimate that it would take about 1 work-hour per product to comply with the basic requirements of this proposed AD. The average labor rate is $85 per work-hour. Based on these figures, we estimate the cost of this proposed AD on U.S. operators to be $81,005, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-20-07, Amendment 39-17213 (77 FR 63716, October 17, 2012), and adding the following new AD:

Airbus: Docket No. FAA-2016-5589; Directorate Identifier 2014-NM-252-AD.

(a) Comments Due Date

We must receive comments by May 31, 2016.

(b) Affected ADs

This AD replaces AD 2012-20-07, Amendment 39-17213 (77 FR 63716, October 17, 2012) (“AD 2012-20-07”).

(c) Applicability

This AD applies to the Airbus airplanes identified in paragraphs (c)(1) through (c)(4) of this AD, certificated in any category, with an original certificate of airworthiness or original export certificate of airworthiness issued on or before July 19, 2014.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 05, Periodic inspections.

(e) Reason

This AD was prompted by Airbus issuing more restrictive maintenance requirements and/or airworthiness limitations. We are issuing this AD to prevent the potential of ignition sources inside fuel tanks, which, in combination with flammable fuel vapors, could result in a fuel tank explosion and consequent loss of the airplane.

(f) Compliance

Comply with this AD within the compliance times specified, unless already done.

(g) Retained Revision of the Airworthiness Limitations Section (ALS) To Incorporate Fuel Maintenance and Inspection Tasks, With No Changes

This paragraph restates the requirements of paragraph (g) of AD 2012-20-07, with no changes. For Model A318-111 and -112 airplanes, and Model A319, A320, and A321 airplanes: Within 3 months after August 28, 2007 (the effective date of AD 2007-15-06 (72 FR 40222, July 24, 2007) (“AD 2007-15-06”)), revise the ALS of the Instructions for Continued Airworthiness to incorporate Airbus A318/A319/A320/A321 ALS Part 5-Fuel Airworthiness Limitations, dated February 28, 2006, as defined in Airbus A318/A319/A320/A321 Fuel Airworthiness Limitations, Document 95A.1931/05, Issue 1, dated December 19, 2005 (approved by the European Aviation Safety Agency (EASA) on March 14, 2006), Section 1, “Maintenance/Inspection Tasks;” or Airbus A318/A319/A320/A321 Fuel Airworthiness Limitations, Document 95A.1931/05, Issue 2, dated July 8, 2008 (approved by the EASA on December 19, 2008), Section 1, “Maintenance/Inspection Tasks.” For all tasks identified in Section 1 “Maintenance/Inspection Tasks,” of Airbus A318/A319/A320/A321 Fuel Airworthiness Limitations, Document 95A.1931/05, Issue 1, dated December 19, 2005; or Issue 2, dated July 8, 2008; the initial compliance times start from August 28, 2007 (the effective date of AD 2007-15-06), and the repetitive inspections must be accomplished thereafter at the intervals specified in Section 1, “Maintenance/Inspection Tasks,” of Airbus A318/A319/A320/A321 Fuel Airworthiness Limitations, Document 95A.1931/05, Issue 1, dated December 19, 2005; or Issue 2, dated July 8, 2008.

Note 1 to paragraph (g) of this AD: Airbus Operator Information Telex (OIT) SE 999.0076/06, dated June 20, 2006, provides guidance on identifying the applicable sections of the Airbus A318/A319/A320/A321 Airplane Maintenance Manual for accomplishing the tasks specified in Section 1 “Maintenance/Inspection Tasks,” of Airbus A318/A319/A320/A321 Fuel Airworthiness Limitations, Document 95A.1931/05, Issue 1, dated December 19, 2005; or Issue 2, dated July 8, 2008.

(h) Retained Revision of the ALS to Incorporate Critical Design Configuration Control Limitations (CDCCLs), With No Changes

This paragraph restates the requirements of paragraph (h) of AD 2012-20-07, with no changes. For Airbus Model A318-111 and -112 airplanes, and Model A319, A320, and A321 airplanes: Within 12 months after August 28, 2007 (the effective date of AD 2007-15-06), revise the ALS of the Instructions for Continued Airworthiness to incorporate Airbus A318/A319/A320/A321 ALS Part 5-Fuel Airworthiness Limitations, dated February 28, 2006, as defined in Airbus A318/A319/A320/A321 Fuel Airworthiness Limitations, Document 95A.1931/05, Issue 1, dated December 19, 2005 (approved by the European Aviation Safety Agency (EASA) on March 14, 2006), Section 2, “Critical Design Configuration Control Limitations;” or Airbus A318/A319/A320/A321 Fuel Airworthiness Limitations, Document 95A.1931/05, Issue 2, dated July 8, 2008 (approved by EASA on December 19, 2008), Section 2, “Critical Design Configuration Control Limitations.”

(i) Retained Requirement: No Alternative Inspections, Inspection Intervals, or CDCCLs, With No Changes

This paragraph restates the requirements of paragraph (i)(1) of AD 2012-20-07, with no changes.

Except as required by paragraph (l) of this AD and except as provided by paragraph (n)(1) of this AD: After accomplishing the actions specified in paragraphs (g) and (h) of this AD, no alternative inspections, inspection intervals, or CDCCLs may be used.

(j) Retained Revision of the Maintenance Program, With Specific Delegation Approval Language in Paragraph (j)(4) of This AD

This paragraph restates the requirements of paragraph (j) of AD 2012-20-07, with specific delegation approval language in paragraph (j)(4) of this AD. Within 6 months after November 21, 2012 (the effective date of AD 2012-20-07): Revise the maintenance program to incorporate the new or revised tasks, life limits, and CDCCLs specified in Airbus A318/A319/A320/A321 Fuel Airworthiness Limitations, Document 95A.1931/05, Issue 4, dated August 26, 2010, except as required in paragraph (j)(4) of this AD. The initial compliance times and intervals are stated in this ALS document, except as required in paragraphs (j)(1) through (j)(4) of this AD, or within 6 months after November 21, 2012, whichever occurs later. For certain tasks, the compliance times depend on the pre-modification and post-modification status of the airplane. Incorporating the requirements of this paragraph terminates the corresponding requirements of paragraphs (g) and (h) of this AD only.

(1) For airplanes for which the first flight occurred before August 28, 2007 (the effective date of AD 2007-15-06), the first accomplishment of Tasks 281800-01-1, Functional Check of Tank Vapour Seal and Vent Drain System; and 281800-02-1, Detailed Inspection of Vapour Seal; must be performed no later than 11 months after November 21, 2012 (the effective date of AD 2012-20-07).

(2) The first accomplishment of Tasks 470000-01-1, Operational Check of Dual Flapper Shutoff Valves (DFSOV), Dual Flapper Check Valves and Nitrogen Enriched Air (NEA) Line for Leaks; 470000-02-1, Operational Check of Both Dual Flapper Check Valves for Leaks; 470000-03-1, Operational Check of Dual Flapper Check Valves for Reverse Flow and NEA Line for Leaks; 470000-04-1, Operational Check of Dual Flapper Check Valves for Reverse Flow; and 470000-05-1, Remove Air Separation Module (ASM) and Return to Vendor for Workshop Check; must be calculated, in accordance with paragraph (j)(2)(i) or (j)(2)(ii) of this AD.

(i) From the airplane first flight for airplanes on which Airbus modification 38062 or 38195 has been embodied in production.

(ii) From the in-service installation of the fuel tank inerting system specified in Airbus Service Bulletin A320-47-1001, Airbus Service Bulletin A320-47-1002, Airbus Service Bulletin A320-47-1003, Airbus Service Bulletin A320-47-1004, Airbus Service Bulletin A320-47-1006, or Airbus Service Bulletin A320-47-1007.

(3) Although Airbus A318/A319/A320/A321 Fuel Airworthiness Limitations, Document 95A.1931/05, Issue 4, dated August 26, 2010, does not refer to Airbus Service Bulletin A320-47-1006 and Airbus Service Bulletin A320-47-1007, the tasks apply as specified in paragraphs (j)(3)(i) through (j)(3)(iv) of this AD.

(i) Tasks 470000-01-1, Operational Check of DFSOV, Dual Flapper Check Valves and NEA Line for Leaks; and 470000-02-1, Operational Check of Both Dual Flapper Check Valves for leaks; apply to airplanes that have previously accomplished the actions specified in Airbus Service Bulletin A320-47-1007.

(ii) Task 470000-03-1, Operational Check of Dual Flapper Check Valves for Reverse Flow and NEA Line for Leaks, applies to airplanes that have previously accomplished the actions specified in Airbus Service Bulletin A320-47-1006, and that have not accomplished the actions specified in Airbus Service Bulletin A320-47-1007.

(iii) Task 470000-04-1, Operational Check of Dual Flapper Check Valves for Reverse Flow, applies to airplanes in post-modification 38195 configuration and that have not accomplished the actions specified in Airbus Service Bulletin A320-47-1007.

(iv) Task 470000-05-1, Remove ASM and return to Vendor for Workshop Check, applies to airplanes that have previously accomplished the actions specified in Airbus Service Bulletin A320-47-1007, and are in pre-modification 151529 configuration.

(4) Replace each ASM identified in table 1 to paragraph (j)(4) of this AD in accordance with a method approved by either the Manager, International Branch, ANM-116, Transport Airplane Directorate, FAA; or EASA (or its delegated agent); or the European Aviation Safety Agency (EASA); or Airbus's EASA Design Organization Approval (DOA). The compliance time for the replacement is before the accumulation of 27,000 total flight hours (component time)—i.e., the life limitation.

Note 2 to paragraph (j)(4) of this AD: Airbus A318/A319/A320/A321 Aircraft Maintenance Manual Task 47-10-43-920-001-A, Air Separation Module Replacement, is an additional source of guidance for accomplishment of the removal and replacement of the ASM.

Table 1 to Paragraph (j)(4) of This AD—ASM Replacement
Affected Airplane configuration— | ASM Part No.—
Post-modification 38062 | 2060017-101
Post-Airbus Service Bulletin A320-47-1002 | 2060017-101
Post-Airbus Service Bulletin A320-47-1004 | 2060017-101
Post-Airbus Service Bulletin A320-47-1007 | 2060017-101
Post-modification 152033 | 2060017-102
Post-Airbus Service Bulletin A320-47-1011 | 2060017-102

(k) Retained Requirement: No Alternative Actions, Intervals, and/or CDCCLs, With No Changes

This paragraph restates the requirements of paragraph (k) of AD 2012-20-07, with no changes. Except as required by paragraph (l) of this AD, after accomplishing the revisions required by paragraph (j) of this AD, no alternative actions (e.g., inspections), intervals, and/or CDCCLs may be used other than those specified in Airbus A318/A319/A320/A321 ALS Part 5-Fuel Airworthiness Limitations, dated February 28, 2006, as defined in Airbus A318/A319/A320/A321 Fuel Airworthiness Limitations, Document 95A.1931/05, Issue 4, dated August 26, 2010, unless the actions, intervals, and/or CDCCLs are approved as an alternative method of compliance (AMOC) in accordance with the procedures specified in paragraph (n)(1) of this AD.

(l) New Requirement of This AD: Revise the Maintenance or Inspection Program

Within 60 days after the effective date of this AD, revise the maintenance or inspection program, as applicable, by incorporating the fuel airworthiness limitations (e.g., life limits, tasks, and CDCCLs, and associated thresholds and intervals) described in Airbus A318/A319/A320/A321 ALS Part 5, Fuel Airworthiness Limitations, Revision 01, dated July 9, 2014. The initial compliance times for the tasks are at the times specified in Airbus A318/A319/A320/A321 ALS Part 5, Fuel Airworthiness Limitations, Revision 01, dated July 9, 2014, or within 60 days after the effective date of this AD, whichever occurs later. Incorporating the requirements of this paragraph terminates the requirements of paragraphs (g) through (k) of this AD.

(m) New Requirement of This AD: No Alternative Actions, Intervals, or CDCCLs

After the maintenance or inspection program has been revised as required by paragraph (l) of this AD, no alternative actions (e.g., inspections), intervals, or CDCCLs may be used unless the actions, intervals, or CDCCLs are approved as an AMOC in accordance with the procedures specified in paragraph (n)(1) of this AD.

(n) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously in accordance with for AD 2012-20-07, are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA Design Organization Approval (DOA). If approved by the DOA, the approval must include the DOA-authorized signature.

(o) Related Information

(1) Refer to Mandatory Continuing Airworthiness Information (MCAI) EASA Airworthiness Directive 2014-0260, dated December 5, 2014, for related information. This MCAI may be found in the AD docket on the Internet at http://www.regulations.gov by searching for and locating Docket No. FAA-2016-5589.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on March 31, 2016.
Victor Wicklund,
Acting Manager, Transport Airplane Directorate, Aircraft Certification Service.

[FR Doc. 2016-08367 Filed 4-13-16; 8:45 am]

BILLING CODE 4910-13-P